DEPARTMENT OF LABOR

Office of the Secretary

Submission for OMB Review: Comment Request

September 8, 2004.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting the Department of Labor (DOL). To obtain documentation, contact Darrin King on 202-693-4129 (this is not a toll-free number) or email: king.darrin@dol.gov.

Comments should be sent to Office of Information and Regulatory Affairs, Attn: OMB Desk Officer for the Bureau of Labor Statistics (BLS), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Bureau of Labor Statistics.

Type of Review: Extension of a currently approved collection.

Title: American Time Use Survey.

OMB Number: 1220-0175.

Frequency: Monthly.

Type of Response: Reporting.

Affected Public: Individuals or households.

Number of Respondents: 13,920.

Number of Annual Responses: 13,920.

Estimated Time Per Response: 20 minutes.

Total Burden Hours: 4,640.

Total Annualized capital/startup costs: $0.

Total Annual Costs (operating/maintaining systems or purchasing services): $0.

Description: The data collected in the American Time Use Survey (ATUS) helps researchers determine how the population in the United States uses its time participating in such activities as paid work, child care, housework, volunteering, socializing, and traveling. ATUS has received wide interest from a variety of users including economist, sociologist, journalist, reporters, and businesspersons. The ATUS information is also expected to be of interest to government policy makers, educators, and lawyers as the survey information has numerous applications. To ensure the widest distribution, BLS will release annual and quarterly data to the public in the form of data tables. Microdata sets containing greater detail than the published tables will also be available, as will special analysis by BLS and outside analysis in the Monthly Labor Review (published by BLS) and other publications.

Ira L. Mills,
Departmental Clearance Officer.

[FR Doc. 04-21054 Filed 9-17-04; 8:45 am]

BILLING CODE 4510-24-P